DEPARTMENT OF COMMERCE

National Oceanic and Atmospheric Administration

Proposed Information Collection; Comment Request; Northeast Fisheries Observer Program Fishermen's Comment Card

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 12, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Amy S. Van Atten, (508) 495-2266 or Amy.Van.Atten@noaa.gov.

SUPPLEMENTARY INFORMATION:

I. Abstract

The National Marine Fisheries Service (NMFS) Northeast Fisheries Observer Program (NEFOP) is managed by the Fisheries Sampling Branch (FSB) at the Northeast Fisheries Science Center (NEFSC). NEFOP observers serve aboard commercial fishing vessels from Maine to North Carolina, as required by the Magnuson-Stevens Fishery Conservation and Management Act and the Marine Mammal Protection Act.

NMFS NEFSC is renewing its request to collect information from fishermen who have had NEFOP observers on their vessels. This information would be collected on a voluntary basis as a qualitative survey to provide NMFS with direct feedback on an observer's performance. This information, upon receipt, will ensure higher data quality, help to detect fraud, assess contractor performance, provide feedback on observer performance, and offer a direct line of communication from fishermen to the NEFOP management.

II. Method of Collection

Paper survey with a pre-addressed, pre-paid postage to be submitted to the NEFOP at the NEFSC. The survey will also be available on the Internet.

III. Data

OMB Control Number: 0648-0536.

Form Number: None.

Type of Review: Regular submission.

Affected Public: Business or other for-profit organizations.

Estimated Number of Respondents: 520.

Estimated Time Per Response: 15 minutes.

Estimated Total Annual Burden Hours: 260.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 6, 2008.
Gwellnar Banks,
Management Analyst, Office of the Chief Information Officer.

[FR Doc. E8-26872 Filed 11-12-08; 8:45 am]

BILLING CODE 3510-22-P